DEPARTMENT OF DEFENSE

Department of the Army

Availability for Non-Exclusive, Exclusive, or Partially Exclusive Licensing of U.S. Patent Application Concerning Pharmaceutical Composition Containing pGLU-GLU-PRO-NH2 and Method for Treating Diseases and Injuries to the Brain, Spinal Cord and Retina Using Same

AGENCY: Army Medical Research and Materiel Command, DOD.

ACTION: Notice.

SUMMARY: In accordance with 37 CFR 404.6, announcement is made of the availability for licensing of U.S. Patent Application No. 09/692,938 entitled “Pharmaceutical Composition Containing pGLU-GLU-PRO-NH2 and Method for Treating Diseases and Injuries to the Brain, Spinal Cord and Retina Using Same” and filed October 20, 2000. Foreign rights are also available (PCT/US00/29278). The United States Government, as represented by the Secretary of the Army, has rights in this invention.

ADDRESSES: Commander, U.S. Army Medical Research and Materiel Command, ATTN: Command Judge Advocate, MCMR-JA, 504 Scott Street, Fort Detrick, Frederick, Maryland 21702-5012.

FOR FURTHER INFORMATION CONTACT: For patent issues, Ms. Elizabeth Arwine, Patent Attorney, (301) 619-7808. For licensing issues, Dr. Paul Mele, Office of Research & Technology Assessment, (301) 619-6664. Both at telefax (301) 619-5034.

SUPPLEMENTARY INFORMATION: A neuroprotectant composition wherein the active ingredient is pGLU-GLU-PRO-NH2 or a combination of pGLU_GLU-PRO-NH2 (EEP) and N-tert-Butyl-α-(2sulfophenyl)nitrone (SPBN) or other nitrone. A method of treating and preventing diseases and injuries of the brain, spinal cord and retina is also presented by administering the endogenous tripeptide EEP to a subject as a neuroprotectant or by administering EEP in combination with SPBN or other nitrone.

Luz D. Ortiz,
Army Federal Register Liaison Officer.

[FR Doc. 01-27864 Filed 11-5-01; 8:45 am]

BILLING CODE 3710-08-M